ENVIRONMENTAL PROTECTION AGENCY

40 CFR Part 52

[Region II Docket No. NY60-257b; FRL-7519-9]

Approval and Promulgation of Implementation Plans; Reasonably Available Control Technology for Oxides of Nitrogen for Specific Sources in the State of New York

AGENCY: Environmental Protection Agency (EPA).

ACTION: Proposed rule.

SUMMARY: The EPA is proposing to approve a revision to the State Implementation Plan (SIP) for ozone submitted by the State of New York. This revision consists of source-specific reasonably available control technology (RACT) determinations for controlling oxides of nitrogen (NOX) emissions from eighteen units at three facilities owned by Tenneco Gas Corporation in New York. This rule proposes to approve the source-specific RACT determinations that were made by New York in accordance with provisions of its regulation. In the “Rules and Regulations” section of this Federal Register, EPA is approving the State's SIP submittal, as a direct final rule without prior proposal because the Agency views it as a noncontroversial submittal and anticipates no adverse comments.

A detailed rationale for the approval is set forth in the direct final rule. If EPA receives no adverse comments, EPA will not take further action on this proposed rule. If EPA receives adverse comments, the Agency will withdraw the direct final rule and it will not take effect. EPA will address all public comments in a subsequent final rule based on this proposed rule. The EPA will not institute a second comment period on this action. Any parties interested in commenting on this action should do so at this time.

DATES: Written comments must be received on or before August 20, 2003.

ADDRESSES: Comments may be submitted either by mail or electronically. Written comments should be mailed to Raymond Werner, Chief, Air Programs Branch, Environmental Protection Agency, Region II Office, 290 Broadway, New York, New York 10007-1866. Electronic comments could be sent either to Werner.Raymond@epa.gov or to http://www.regulations.gov, which is an alternative method for submitting electronic comments to EPA. Go directly to http://www.regulations.gov, then select “Environmental Protection Agency” at the top of the page and use the “go” button. Please follow the on-line instructions for submitting comments.

Copies of the State submittals are available at the following addresses for inspection during normal business hours:

Environmental Protection Agency, Region II Office, 290 Broadway, 25th Floor, New York, New York 10007-1866.

New York Department of Environmental Conservation, Division of Air Resources, 625 Broadway, 2nd Floor, Albany, New York 12233.

FOR FURTHER INFORMATION CONTACT: Anthony (Ted) Gardella (Gardella.Anthony@epa.gov) or Richard Ruvo (Ruvo.Richard@epa.gov), Air Programs Branch, Environmental Protection Agency, 290 Broadway, 25th Floor, New York, New York 10007-1866, (212) 637-4249.

SUPPLEMENTARY INFORMATION: For additional information see the direct final rule which is located in the Rules section of this Federal Register.

Dated: June 17, 2003.
Jane M. Kenny,
Regional Administrator, Region 2.

[FR Doc. 03-18300 Filed 7-18-03; 8:45 am]

BILLING CODE 6560-50-P